DEPARTMENT OF TRANSPORTATION

Federal Aviation Administration

14 CFR Part 39

[Docket No. FAA-2010-0281; Directorate Identifier 2009-NM-184-AD]

RIN 2120-AA64

Airworthiness Directives; Airbus Model A300-600 and A310 Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as: Surface defects were visually detected on the rudder of one Airbus A319 and one A321 in-service aeroplane. Investigation has determined that the defects reported on both rudders corresponded to areas that had been reworked in production. The investigation confirmed that the defects were the result of de-bonding between the skin and honeycomb core. Such reworks were also performed on some rudders fitted on A310 and A300-600 aeroplanes. An extended de-bonding, if not detected and corrected, may degrade the structural integrity of the rudder. The loss of the rudder leads to degradation of the handling qualities and reduces the controllability of the aeroplane.

The proposed AD would require actions that are intended to address the unsafe condition described in the MCAI.

DATES: We must receive comments on this proposed AD by May 17, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Comments Invited

We invite you to send any written relevant data, views, or arguments about this proposed AD. Send your comments to an address listed under the ADDRESSES section. Include “Docket No. FAA-2010-0281; Directorate Identifier 2009-NM-184-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2010-0002, dated January 5, 2010 (referred to after this as “the MCAI”), to correct an unsafe condition for the specified products. The MCAI states:

Surface defects were visually detected on the rudder of one Airbus A319 and one A321 in-service aeroplane. Investigation has determined that the defects reported on both rudders corresponded to areas that had been reworked in production. The investigation confirmed that the defects were the result of de-bonding between the skin and honeycomb core. Such reworks were also performed on some rudders fitted on A310 and A300-600 aeroplanes.

An extended de-bonding, if not detected and corrected, may degrade the structural integrity of the rudder. The loss of the rudder leads to degradation of the handling qualities and reduces the controllability of the aeroplane.

To address this unsafe condition [this EASA AD] requires inspections of specific areas and, depending on findings, the application of corrective actions for those rudders where production reworks have been identified.

This * * * [EASA] AD * * * also requires for the vacuum loss hole restoration:

—A local ultrasonic inspection for reinforced area instead of the local thermographic inspection, which is maintained for non-reinforced areas, and

—Additional work performance for rudders on which this thermographic inspection has been performed in the reinforced area.

The inspections include vacuum loss inspections and elasticity laminate checker inspections for defects including de-bonding between the skin and honeycomb core of the rudder, and ultrasonic inspections for rudders on which temporary restoration with resin or permanent vacuum loss hole restoration has been performed. The corrective action is contacting the manufacturer for repair instructions and doing the repair. We are considering similar rulemaking action on Models A319 and A321 airplanes. You may obtain further information by examining the MCAI in the AD docket.

Relevant Service Information

Airbus has issued All Operators Telex (AOT) A300-55A6047, Revision 02, dated October 12, 2009; and AOT A310-55A2048, Revision 02, dated October 12, 2009. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 194 products of U.S. registry. We also estimate that it would take about 4 work-hours per product to comply with the basic requirements of this proposed AD. The average labor rate is $85 per work-hour. Based on these figures, we estimate the cost of the proposed AD on U.S. operators to be $65,960, or $340 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2010-0281; Directorate Identifier 2009-NM-184-AD.

Comments Due Date

(a) We must receive comments by May 17, 2010.

Affected ADs

(b) None.

Applicability

(c) This AD applies to Airbus Model A300 B4-601, B4-603, B4-620, B4-622, B4-605R, B4-622R, F4-605R, F4-622R, and C4-605R Variant F airplanes; and Model A310-203, -204, -221, -222, -304, -322, -324, and -325 airplanes; certificated in any category; equipped with carbon fiber reinforced plastic rudders having part numbers and serial numbers listed in Table 1 of this AD.

Table 1—Rudder Information
Rudder part No. | Affected rudder serial No. | Core density 24 kg/m³
A554-71500-016-91 | HF-1017 | Yes.
A554-71500-016-91 | HF-1020 | No.
A554-71500-016-91 | HF-1059 | No.
A554-71500-016-91 | HF-1061 | No.
A554-71500-016-91 | HF-1064 | No.
A554-71500-014-00 | HF-1087 | Yes.
A554-71500-014-00 | HF-1119 | Yes.
A554-71500-016-00 | HF-1189 | Yes.
A554-71500-016-00 | HF-1203 | Yes.
A554-71500-016-00 | HF-1266 | Yes.
A554-71500-026-00 | TS-1405 | No.
A554-71710-000-00 | TS-2001 | No.
A554-71710-000-00 | TS-2004 | No.
A554-71710-000-00 | TS-2007 | No.
A554-71710-000-00 | TS-2009 | No.
A554-71710-000-00 | TS-2011 | No.
A554-71710-000-00 | TS-2012 | No.
A554-71710-000-00 | TS-2013 | No.
A554-71710-000-00 | TS-2014 | No.
A554-71710-000-00 | TS-2016 | No.
A554-71710-000-00 | TS-2017 | No.
A554-71710-000-00 | TS-2018 | No.
A554-71710-000-00 | TS-2020 | No.
A554-71710-000-00 | TS-2021 | No.
A554-71710-000-00 | TS-2022 | No.
A554-71710-000-00 | TS-2024 | No.
A554-71710-000-00 | TS-2025 | No.
A554-71710-000-00 | TS-2026 | No.
A554-71710-000-00 | TS-2028 | No.
A554-71710-000-00 | TS-2029 | No.
A554-71710-002-00 | TS-2031 | No.
A554-71710-002-00 | TS-2032 | No.
A554-71710-002-00 | TS-2035 | No.
A554-71710-002-00 | TS-2040 | No.
A554-71710-002-00 | TS-2041 | No.
A554-71710-002-00 | TS-2044 | No.
A554-71710-002-00 | TS-2046 | No.
A554-71710-004-00 | TS-2050 | No.
A554-71710-004-00 | TS-2056 | No.
A554-71710-004-00 | TS-2058 | No.
A554-71710-004-00 | TS-2060 | No.
A554-71710-004-00 | TS-2062 | No.
A554-71710-004-00 | TS-2065 | No.
A554-71710-004-00 | TS-2066 | No.
A554-71710-004-00 | TS-2074 | No.
A554-71710-004-00 | TS-2075 | No.
A554-71710-004-00 | TS-2076 | No.
A554-71710-004-00 | TS-2079 | No.

Subject

(d) Air Transport Association (ATA) of America Code 55: Stabilizers.

Reason

(e) The mandatory continuing airworthiness information (MCAI) states:

Surface defects were visually detected on the rudder of one Airbus A319 and one A321 in-service aeroplane. Investigation has determined that the defects reported on both rudders corresponded to areas that had been reworked in production. The investigation confirmed that the defects were the result of de-bonding between the skin and honeycomb core. Such reworks were also performed on some rudders fitted on A310 and A300-600 aeroplanes.

An extended de-bonding, if not detected and corrected, may degrade the structural integrity of the rudder. The loss of the rudder leads to degradation of the handling qualities and reduces the controllability of the aeroplane.

To address this unsafe condition [this EASA AD] requires inspections of specific areas and, depending on findings, the application of corrective actions for those rudders where production reworks have been identified.

This * * * [EASA] AD * * * also requires for the vacuum loss hole restoration:

—A local ultrasonic inspection for reinforced area instead of the local thermographic inspection, which is maintained for non-reinforced areas, and

—Additional work performance for rudders on which this thermographic inspection has been performed in the reinforced area.

The inspections include vacuum loss inspections and elasticity laminate checker inspections for defects including de-bonding between the skin and honeycomb core of the rudder, and ultrasonic inspections for rudders on which temporary restoration with resin or permanent vacuum loss hole restoration has been performed. The corrective action is contacting the manufacturer for repair instructions and doing the repair. We are considering similar rulemaking action on Models A319 and A321 airplanes.

Compliance

(f) You are responsible for having the actions required by this AD performed within the compliance times specified, unless the actions have already been done.

Actions and Compliance

(g) For rudders with a honeycomb core density of 24 kg/m³, as identified in Table 1 of this AD, do the actions required in paragraphs (g)(1) through (g)(10) of this AD, in accordance with Airbus All Operators Telex (AOT) A310-55A2048 or A300-55A6047, both Revision 02, both dated October 12, 2009, as applicable.

(1) In the reinforced location: Within 8 months after the effective date of this AD, do a vacuum loss inspection to detect defects including de-bonding.

(2) In the trailing edge location: Within 24 months after the effective date of this AD, do an elasticity laminate checker inspection to detect defects including de-bonding.

(3) Repeat the inspection required by paragraph (g)(2) of this AD two times at intervals not to exceed 4,500 flight cycles, but not fewer than 4,000 flight cycles from the last inspection.

(4) In other locations (lower rib/upper edge/leading edge/other locations): Within 8 months after the effective date of this AD, do an elasticity laminate checker inspection to detect defects including de-bonding.

(5) Repeat the inspection required by paragraph (g)(4) of this AD at intervals not to exceed 8 months from the last inspection.

(6) Within 24 months after the effective date of this AD, do a vacuum loss inspection on the other locations (lower rib/upper edge/leading edge/other locations) to detect defects including de-bonding.

(7) Accomplishment of the inspection required by paragraph (g)(6) of this AD terminates the initial and repetitive inspections required by paragraphs (g)(4) and (g)(5) of this AD.

(8) If any defect is found during any inspection required by paragraph (g)(1), (g)(2), (g)(4), or (g)(6) of this AD, before further flight, contact Airbus for repair instructions and do the repair.

(9) If no defects are found during any inspection required by paragraphs (g)(1) and (g)(6) of this AD, before further flight, restore the vacuum loss holes with temporary restoration with self-adhesive patches, temporary restoration with resin, or permanent restoration with resin and surface protection, and repeat the inspection required by paragraph (g)(3) of this AD at intervals not to exceed 4,500 flight cycles until permanent restoration is completed.

(10) If any defect is found during any inspection required by paragraphs (g)(1), (g)(2), (g)(4), and (g)(6) of this AD, at the applicable time in paragraph (g)(10)(i) or (g)(10)(ii) of this AD: Report the inspection results to Airbus SAS, SEER1/SEER2/SEER3, Customer Services, 1 Rond Point Maurice Bellonte, 31707 Blagnac Cedex, France; fax +33 (0) 5 61 93 28 73; or e-mail to region1.StructureRepairSupport@airbus.com, region2.StructureRepairSupport@airbus.com, or region3.StructureRepairSupport@airbus.com.

(i) Inspections done before the effective date of this AD: Within 30 days after the effective date of this AD.

(ii) Inspections done on or after the effective date of this AD: Within 30 days after accomplishment of the inspection.

(11) If no defect is found during any inspection required by paragraphs (g)(1), (g)(2), (g)(4), and (g)(6) of this AD, at the applicable time in (g)(10)(i) or (g)(10)(ii): Report the inspection results to Airbus SAS, Jean-Luc BOITEUX, SEES1, Customer Services, fax (0) 5 61 93 36 14; or e-mail to jean-luc.j.boiteux@airbus.com.

(h) For rudders not having a honeycomb core density of 24 kg/m³, as identified in Table 1 of this AD, do the actions required in paragraph (h)(1) through (h)(10) of this AD in accordance with Airbus AOT A310-55A2048 or AOT A300-55A6047, both Revision 02, both dated October 12, 2009, as applicable.

(1) In the reinforced location: Within 8 months after the rudder has accumulated 13,000 flight cycles since first installation, or within 8 months after the effective date of this AD, whichever occurs later, do a vacuum loss inspection to detect defects including de-bonding.

(2) In the trailing edge location: Within 24 months after the rudder has accumulated 13,000 flight cycles since first installation, or within 24 months after the effective date of this AD, whichever occurs later, do an elasticity laminate checker inspection to detect defects including de-bonding.

(3) Repeat the inspection required by paragraph (h)(2) of this AD two times at intervals not to exceed 4,500 flight cycles, but not fewer than 4,000 flight cycles from the last inspection.

(4) In other locations (lower rib/upper edge/leading edge/other locations): Within 8 months after the rudder has accumulated 13,000 flight cycles since first installation, or within 8 months after the effective date of this AD, whichever occurs later, do an elasticity laminate checker inspection to detect defects including de-bonding.

(5) Repeat the inspection required by paragraph (h)(4) of this AD at intervals not to exceed 8 months from the last inspection.

(6) Within 24 months after the rudder has accumulated 13,000 flight cycles since first installation, or within 24 months after the effective date of this AD, whichever occurs later, do a vacuum loss inspection on the other locations (lower rib/upper edge/leading edge/other location) to detect defects including de-bonding.

(7) Accomplishment of the inspection required by paragraph (h)(6) of this AD terminates the initial and repetitive inspections required by paragraphs (h)(4) and (h)(5) of this AD.

(8) If any defect is found during any inspection required by paragraph (h)(1), (h)(2), (h)(4), or (h)(6) of this AD, before further flight, contact Airbus for repair instructions and do the repair.

(9) If no defects are found during the inspections required by paragraphs (h)(1) and (h)(6) of this AD, before further flight, restore the vacuum loss holes with the temporary restoration with self adhesive patches, temporary restoration with resin, or permanent restoration with resin and surface protection, and repeat the inspection required by paragraph (h)(3) of this AD at intervals not to exceed 4,500 flight cycles until permanent restoration is completed.

(10) If any defect is found during any inspection required by paragraphs (h)(1), (h)(2), (h)(4), and (h)(6) of this AD, at the applicable time in paragraph (h)(10)(i) or (h)(10)(ii) of this AD: Report the inspection results to Airbus SAS, SEER1/SEER2/SEER3, Customer Services, 1 Rond Point Maurice Bellonte, 31707 Blagnac Cedex, France; fax +33 (0) 5 61 93 28 73; or e-mail to region1.StructureRepairSupport@airbus.com, region2.StructureRepairSupport@airbus.com, or region3.StructureRepairSupport@airbus.com.

(i) Inspections done before the effective date of this AD: Within 30 days after the effective date of this AD.

(ii) Inspections done on or after the effective date of this AD: Within 30 days after accomplishment of the inspection.

(11) If no defect is found during any inspection required by paragraphs (h)(1), (h)(2), (h)(4), and (h)(6) of this AD, at the applicable time in (h)(10)(i) or (h)(10)(ii): Report the inspection results to Airbus SAS, Jean-Luc BOITEUX, SEES1, Customer Services, fax (0) 5 61 93 36 14; or e-mail to jean-luc.j.boiteux@airbus.com.

(i) Actions done before the effective date of this AD, in accordance with the service information listed in Table 2 of this AD, are acceptable for compliance with the requirements of paragraphs (g) and (h) of this AD for the areas inspected, for any rudder listed in Table 1 of this AD.

(j) Additional areas requiring inspection for all airplanes are defined in Airbus AOT A310-55A2048 or AOT A300-55A6047, both Revision 02, both dated October 12, 2009, as applicable. For these additional areas, do the actions required in paragraphs (g) and (h) of this AD, as applicable, at the times specified in those paragraphs. For all areas, do the repetitive inspections required by paragraphs (g) and (h) of this AD as applicable at the times specified in those paragraphs.

Table 2—Credit Service Information
Airbus AOT— | Revision— | Dated—
A300-55A6047 | Original | May 11, 2009.
A300-55A6047 | 01 | July 8, 2009.
A310-55A2048 | Original | May 11, 2009.
A310-55A2048 | 01 | July 8, 2009.

(k) For rudders on which temporary restoration with resin or permanent vacuum loss hole restoration has been done in accordance with the applicable service bulletin in Table 2 of this AD, as required in paragraph (g)(9) or (h)(9) of this AD, before the effective date of this AD: Within 4,500 flight cycles from the restoration date, do an ultrasonic inspection for defects, including debonding of the reinforced area, in accordance with Airbus AOT A310-55A2048 or AOT A300-55A6047, both Revision 02, both dated October 12, 2009, as applicable. If any defect is found, before further flight, contact Airbus for repair instructions and do the repair.

(l) After the effective date of this AD, no person may install any rudder listed in Table 1 of this AD on any airplane, unless the rudder has been inspected and all applicable corrective actions have been done in accordance with paragraph (g) or (h) of this AD.

FAA AD Differences

Note 1: This AD differs from the MCAI and/or service information as follows: No differences.

Other FAA AD Provisions

(m) The following provisions also apply to this AD:

(1) Alternative Methods of Compliance (AMOCs): The Manager, International Branch, ANM-116, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(n) Refer to MCAI European Aviation Safety Agency (EASA) Airworthiness Directive 2010-0002, dated January 5, 2010; and Airbus AOT A310-55A2048, Revision 02, dated October 12, 2009, or Airbus AOT A300-55A6047, Revision 02, dated October 12, 2009; for related information.

Issued in Renton, Washington, on March 25, 2010.
Ali Bahrami,
Manager, Transport Airplane Directorate, Aircraft Certification Service.

[FR Doc. 2010-7459 Filed 4-1-10; 8:45 am]

BILLING CODE 4910-13-P